DEPARTMENT OF ENERGY

[OE Docket No. EA-486]

Application to Export Electric Energy; Clear Power LLC

AGENCY: Office of Electricity, Department of Energy.

ACTION: Notice of application.

SUMMARY: Clear Power LLC (Applicant or Clear Power) has applied for authorization to transmit electric energy from the United States to Mexico pursuant to the Federal Power Act.

DATES: Comments, protests, or motions to intervene must be submitted on or before November 30, 2020.

ADDRESSES: Comments, protests, motions to intervene, or requests for more information should be addressed by electronic mail to Electricity.Exports@hq.doe.gov, or by facsimile to (202) 586-8008.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On September 2, 2020, Clear Power filed an application with DOE (Application or App.) to transmit electric energy from the United States to Mexico for a term of five years. Clear Power states that it “is a California limited liability corporation with its principal place of business [in] Folsom, CA.” App. at 1. Clear Power represents that it “is a wholly-owned subsidiary of the Alaywan Trust which owns or is affiliated with entities that own or control a combined 11.0 MW (nameplate) of operating renewable generation facilities, all located in the [California Independent System Operator] market.” Id. Clear Power adds, however, that it “does not own or control any electric power generation, transmission or distribution facilities.” Id. at 2.

Clear Power further states that it “will purchase the power it plans to export voluntarily through the electric energy markets in the United States . . . and/or from electric utilities, wholesale generators, power marketers, and other parties, and thus such power will be surplus to the needs of the selling parties or organization[s].” App. at 3. Clear Power contends that its exports “will not impair or tend to impede the sufficiency of electric power supplies in the United States or the regional coordination of electric utility planning or operation.” Id.

Clear Power states that it will conduct its operations “in compliance with any authorization conditions imposed by the Department consistent with its prior orders authorizing power marketers'; blank authority to export power.” App. at 4. Clear Power also represents that its exports “will not exceed the export limits for the transmission facilities [it uses], or otherwise cause a violation of the terms and conditions established in the export authorization.” Id. at 5.

The existing international transmission facilities to be utilized by the Applicant have previously been authorized by Presidential permits issued pursuant to Executive Order 10485, as amended, and are appropriate for open access transmission by third parties.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Clear Power's application to export electric energy to Mexico should be clearly marked with OE Docket No. EA-486. Additional copies are to be provided directly to Ziad Alaywan, 604 Sutter Street, Suite 250, Folsom, California 95630, ziad@zglobal.biz; Andrew B. Brown, 2600 Capital Avenue, Suite 400, Sacramento, California 95816, abb@eslawfirm.com; and Ronald Liebert, 2600 Capital Avenue, Suite 400, Sacramento, California 95816, rl@eslawfirm.com.

A final decision will be made on the Application after the environmental impacts have been evaluated pursuant to DOE's National Environmental Policy Act Implementing Procedures (10 CFR part 1021) and after DOE determines that the proposed action will not have an adverse impact on the sufficiency of supply or reliability of the U.S. electric power supply system.

Copies of the Application will be made available, upon request, by accessing the program website at http://energy.gov/node/11845, or by emailing Matthew Aronoff at matthew.aronoff@hq.doe.gov.

Signed in Washington, DC, on October 27, 2020.
Christopher Lawrence,
Management and Program Analyst, Transmission Permitting and Technical Assistance, Office of Electricity.

[FR Doc. 2020-24090 Filed 10-29-20; 8:45 am]

BILLING CODE 6450-01-P